NUCLEAR REGULATORY COMMISSION

[Docket No. 72-20]

Department of Energy; Three Mile Island, Unit 2, Independent Spent Fuel Storage Installation; Notice of Docketing of Materials License SNM-2508 Amendment; Application

By letter dated April 2, 2001, the U.S. Department of Energy (DOE) submitted an application to the Nuclear Regulatory Commission (NRC or the Commission), in accordance with 10 CFR Part 72, requesting the amendment of the Three Mile Island, Unit 2 (TMI-2) independent spent fuel storage installation (ISFSI) license (SNM-2508) for the ISFSI located at Idaho Falls, Idaho. DOE is seeking Commission approval to amend the materials license and the ISFSI Technical Specifications to revise the Radiation Protection Technical Specification, 3.2.1 and 3.2.2, to control the total Horizontal Storage Module (HSM) dose rate, rather than just the HSM gamma dose rate. The amendment would ensure the Technical Specifications provide adequate controls for the neutron dose from the HSM, since neutron sources are a part of the approved storage cask contents. Modification of the Technical Specification is in response to a Notice of Violation (NRC Inspection Report 72-20/00-03, Docket 72-20) dated February 12, 2001. The requested changes do not appear to affect the design, operation, or maintenance of the ISFSI.

This application was docketed under 10 CFR Part 72; the ISFSI Docket No. is 72-20 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of action taken and an opportunity for interested persons to request a hearing on whether the action should be rescinded or modified.

For further details with respect to this application, see the application dated April 2, 2001. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 29th day of May 2001.
For the Nuclear Regulatory Commission.
E. William Brach,
Director, Spent Fuel Project Office, Office of Nuclear Material Safety and Safeguards.

[FR Doc. 01-14601 Filed 6-8-01; 8:45 am]

BILLING CODE 7590-01-P